DEPARTMENT OF COMMERCE

National Institute of Standards and Technology

Proposed Information Collection; Comment Request; SURF (Summer Undergraduate Research Fellowship) Program Student Applicant Information

AGENCY: National Institute of Standards and Technology.

ACTION: Notice.

SUMMARY: The Department of Commerce (DOC), as part of its continuing effort to reduce paperwork and respondent burden, invites the general public and other Federal agencies to comment on the continuing and proposed information collection, as required by the Paperwork Reduction Act of 1995, Public Law 104-13 (44 U.S.C. 3506(c)(2)(A)).

DATES: Written comments must be submitted on or before March 7, 2006.

ADDRESSES: Direct all written comments to Diana Hynek, Departmental Forms Clearance Officer, Department of Commerce, Room 6625, 14th and Constitution Avenue, NW., Washington, DC 20230 (or via the Internet at dHynek@doc.gov).

FOR FURTHER INFORMATION CONTACT: Requests for additional information should be directed to the attention of Terrell Vanderah, NIST, 100 Bureau Drive, Stop 8520, Gaithersburg, MD 20899, tel. (301) 975-5785 or via e-mail to terrell.vanderah@nist.gov.

SUPPLEMENTARY INFORMATION

I. Abstract

The purpose of this collection is to gather information needed for the SURF (Summer Undergraduate Research Fellowship) Program. The information will be provided by student applicants and will be described in the Proposal Review Process and Evaluation Criteria sections of the Federal Register Notice for the SURF Program. The information will be used by the Program Directors and technical evaluators and is needed to determine eligible students, select students for the program using the Evaluation Criteria described in the Federal Register Notice, and place selected students in appropriate research projects that match their needs, interests, and academic preparation. The information includes: Student name, host institution, e-mail address/contact information, home address, class standing, first- and second-choice NIST laboratories they wish to apply to, academic major/minor, current overall GPA, need for housing and gender (for housing purposes only), availability dates, resume, personal statement of commitment and research interests, two letters of recommendation, academic transcripts, ability to verify U.S. citizenship or permanent legal residency, and ability to verify health coverage.

II. Method of Collection

The Student Application Information form will be available on the web for downloading only; can be submitted as hard copy or scanned and submitted electronically.

III. Data

OMB Number: 0693-0042.

Form Number: None.

Type of Review: Regular submission.

Affected Public: Individuals or households.

Estimated Number of Respondents: 200.

Estimated Time Per Response: 2 hours.

Estimated Total Annual Burden Hours: 400.

Estimated Total Annual Respondent Cost Burden: $0.

IV. Request for Comments

Comments are invited on: (a) Whether the proposed collection of information is necessary for the proper performance of the functions of the agency, including whether the information will have practical utility; (b) the accuracy of the agency's estimate of the burden (including hours and cost) of the proposed collection of information; (c) ways to enhance the quality, utility, and clarity of the information to be collected; and (d) ways to minimize the burden of the collection of information on respondents, e.g., the use of automated collection techniques or other forms of information technology.

Comments submitted in response to this notice will be summarized or included in the request for OMB approval of this information collection; they also will become a matter of public record.

Dated: December 30, 2005.
Gwellnar Banks,
Management Analyst, Office of the Chief Information Officer.

[FR Doc. E5-8323 Filed 1-5-06; 8:45 am]

BILLING CODE 3510-13-P